DEPARTMENT OF HEALTH AND HUMAN SERVICES

Administration for Children and Families

Submission for OMB Review; Comment Request

Title: Exploration of Low-Income Couples' Decision-Making Processes.

OMB No.: New Collection.

Description: The Administration for Children and Families (ACF), U.S. Department of Health and Human Services (HHS), is proposing a data collection activity as part of the Exploration of Low-Income Couples' Decision Making (CDM) Processes study. This project will gather important information that will be useful for improving social services delivery approaches for working with individuals in couple relationships. The proposed collection will consist of a telephone survey and in-home observation of low-income couples. These data collection efforts will examine sources of conflict and assess decision-making processes among low-income couples—especially in relation to issues directly addressed by social service programs (e.g., employment, housing, etc.)

Respondents: Low-income couples.

Annual Burden Estimates
Instrument | Annual number of respondents | Number of responses per respondent | Average burden hours per response | Estimated annual burden hours
Telephone Survey | 90 | 1 | .333 | 30
In-Home Observation | 90 | 1 | 2.666 | 240

Estimated Total Annual Burden Hours: 270.

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: April 14, 2008.
Brendan C. Kelly,
Reports Clearance Officer.

[FR Doc. E8-8626 Filed 4-22-08; 8:45 am]

BILLING CODE 4184-01-M